DEPARTMENT OF TRANSPORTATION

Federal Aviation Administration

14 CFR Part 39

[Docket No. FAA-2008-0328; Directorate Identifier 2008-NE-44-AD; Amendment 39-16161; AD 2010-01-04]

RIN 2120-AA64

Airworthiness Directives; General Electric Company (GE) CF34-1A, CF34-3A, and CF34-3B Series Turbofan Engines

AGENCY: Federal Aviation Administration (FAA), DOT.

ACTION: Final rule; request for comments.

SUMMARY: The FAA is superseding an existing airworthiness directive (AD) for GE CF34-1A, CF34-3A, and CF34-3B series turbofan engines. That AD currently requires removing from service certain part number (P/N) and serial number (S/N) fan blades within compliance times specified in the AD, inspecting the fan blade abradable rub strip on certain engines for wear, inspecting the fan blades on certain engines for cracks, inspecting the aft actuator head hose fitting for correct position, and, if necessary, repositioning the hose fitting. This ad supersedure requires the same actions but corrects the effectivity for certain fan blades requiring corrective actions and changes the effective date of the current AD. This AD supersedure results from the FAA discovering that the existing AD has an incorrect effectivity for certain fan blades requiring corrective actions, and from a report of an under-cowl fire and a failed fan blade. We are issuing this AD to prevent failure of certain P/N and S/N fan blades and aft actuator head hoses, which could result in an under-cowl fire and subsequent damage to the airplane.

DATES: This AD becomes effective January 25, 2010. The Director of the Federal Register previously approved the incorporation by reference of certain publications listed in the regulations as of January 4, 2010.

We must receive any comments on this AD by March 9, 2010.

ADDRESSES: Use one of the following addresses to comment on this AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact General Electric Company, GE-Aviation, Room 285, 1 Neumann Way, Cincinnati, OH 45215, telephone (513) 552-3272; fax (513) 552-3329; e-mail: geae.aoc@ge.com for the service information identified in this AD.

FOR FURTHER INFORMATION CONTACT: John Frost, Aerospace Engineer, Engine Certification Office, FAA, Engine & Propeller Directorate, 12 New England Executive Park, Burlington, MA 01803; e-mail: john.frost@faa.gov; telephone (781) 238-7756; fax (781) 238-7199.

SUPPLEMENTARY INFORMATION: The FAA amends 14 CFR part 39 by superseding AD 2009-24-11, Amendment 39-16103 (74 FR 62481, November 30, 2009). That AD requires removing from service certain P/N and S/N fan blades within compliance times specified in the AD, inspecting the fan blade abradable rub strip on certain engines for wear, inspecting the fan blades on certain engines for cracks, inspecting the aft actuator head hose fitting for correct position, and, if necessary, repositioning the hose fitting. That AD was the result of a report of an under-cowl fire and a failed fan blade. That condition, if not corrected, could result in an under-cowl fire and subsequent damage to the airplane.

Actions Since AD 2009-24-11 Was Issued

Since AD 2009-24-11 was issued, we discovered that when we recodified the compliance section as part of our response to a comment received on the proposed AD, we inadvertently left out of the AD certain fan blade effectivity information from paragraphs (f) and (g) and (j). Paragraphs (f) and (g) are missing information on fan blades, P/Ns 6018T30P14 or 4923T56G08, that have any fan blade S/Ns listed in Appendix A of General Electric Aircraft Engines (GEAE) Service Bulletin (SB) No. CF34-AL S/B 72-0245, Revision 01, dated July 30, 2008. Also, paragraph (j) is missing information on fan blades, P/N 6018T30P14 or P/N 4923T56G08, that have any fan blade S/Ns listed in Appendix A of GEAE SB No. CF34-BJ S/B 72-0229, Revision 01, dated July 30, 2008. This AD supersedure adds the missing information to the compliance section and changes the effective date of the original AD to the same effective date as this AD, to prevent possible grounding of airplanes.

Relevant Service Information

We have reviewed and approved the technical contents of the following GE Aircraft Engines SBs:

• CF34-AL S/B 73-0046, Revision 02, dated August 27, 2008, and CF34-BJ S/B 73-0062, Revision 02, dated August 27, 2008, that provide instructions for inspecting the orientation of the aft actuator hose assembly and the main fuel control.

• CF34-AL S/B 72-0245, Revision 01, dated July 3, 2008, CF34-BJ S/B 72-0229, Revision 01, dated July 30, 2008, and CF34-BJ S/B 72-0230, Revision 01, dated July 30, 2008, that provide instructions for replacing certain existing blades, P/Ns 6018T30P14 and 4923T56G08, that have a S/N listed in Appendix A of those SBs.

• CF34-AL S/B 72-0250, Revision 01, dated November 26, 2008, and CF34-BJ S/B 72-0231, Revision 02, dated November 26, 2008, that provide instructions for inspecting the fan case abradable rub strip and fan blade tangs.

FAA's Determination and Requirements of This AD

The unsafe condition described previously is likely to exist or develop on other GE CF34-1A, CF34-3A, and CF34-3B series turbofan engines of the same type design. We are issuing this AD supersedure to prevent failure of certain P/N and S/N fan blades and aft actuator head hoses, which could result in an under-cowl fire and subsequent damage to the airplane. This AD requires removing from service certain P/N and S/N fan blades within compliance times specified in the AD, inspecting the fan blade abradable rub strip on certain engines for wear, inspecting the fan blades on certain engines for cracks, inspecting the aft actuator head hose fitting for correct position, and, if necessary, repositioning the hose fitting. You must use the service information described previously to perform the actions required by this AD.

FAA's Determination of the Effective Date

Since an unsafe condition exists that requires the immediate adoption of this AD, we have found that notice and opportunity for public comment before issuing this AD are impracticable, and that good cause exists for making this amendment effective in less than 30 days.

Comments Invited

This AD is a final rule that involves requirements affecting flight safety and was not preceded by notice and an opportunity for public comment. However, we invite you to send us any written relevant data, views, or arguments regarding this AD. Send your comments to an address listed under ADDRESSES. Include “Docket No. FAA-2008-0328; Directorate Identifier 2008-NE-44-AD” in the subject line of your comments. We specifically invite comments on the overall regulatory, economic, environmental, and energy aspects of the rule that might suggest a need to modify it.

We will post all comments we receive, without change, to http://www.regulations.gov, including any personal information you provide. We will also post a report summarizing each substantive verbal contact with FAA personnel concerning this AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is the same as the Mail address provided in the ADDRESSES section. Comments will be available in the AD docket shortly after receipt.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Amendment 39-16103 (74 FR 62481, November 30, 2009), and by adding a new airworthiness directive, Amendment 39-16161, to read as follows:

2010-01-04 General Electric Company: Amendment 39-16161. Docket No. FAA-2008-0328; Directorate Identifier 2008-NE-44-AD.

Effective Date

(a) This airworthiness directive (AD) becomes effective January 25, 2010.

Affected ADs

(b) This AD supersedes AD 2009-24-11, Amendment 39-16103.

Applicability

(c) This AD applies to General Electric Company (GE) CF34-1A, CF34-3A, CF34-3A1, CF34-3A2, CF34-3B, and CF34-3B1 turbofan engines. These engines are installed on, but not limited to, Bombardier Canadair Models CL-600-2A12, CL-600-2B16, and CL-600-2B19 airplanes.

Unsafe Condition

(d) This AD results from the FAA discovering that the existing AD has an incorrect effectivity for certain fan blades requiring corrective actions, and from a report of an under-cowl fire and a failed fan blade. We are issuing this AD to prevent failure of certain part number (P/N) and serial number (S/N) fan blades and aft actuator head hoses, which could result in an under-cowl fire and subsequent damage to the airplane.

Compliance

(e) You are responsible for having the actions required by this AD performed within the compliance times specified, unless the actions have already been done.

CF34-3A1 and CF34-3B1 Engines

(f) For CF34-3A1 engines that meet all of the following criteria, perform the actions specified in paragraph (i) of this AD:

(1) Fan drive shaft, P/N 6036T78P02, installed; and

(2) Airworthiness limitation section fan drive shaft life limit of 22,000 cycles-since-new (CSN); and

(3) Installed fan blades, P/Ns 6018T30P14 or 4923T56G08, that have any fan blade S/Ns listed in Appendix A of General Electric Aircraft Engines (GEAE) SB No. CF34-AL S/B 72-0245, Revision 01, dated July 30, 2008.

(g) For CF34-3A1 engines that meet all of the following criteria, perform the actions specified in paragraph (i) of this AD:

(1) Fan drive shaft, P/N 6036T78P02, installed; and

(2) Airworthiness limitation section fan drive shaft life limit of 15,000 CSN; and

(3) In compliance with GEAE SB No. CF34-AL S/B 72-0147, dated May 21, 2003, Revision 01, dated October 17, 2003, Revision 02, dated August 5, 2004, or Revision 3, dated August 28, 2003; and

(4) Installed fan blades, P/Ns 6018T30P14 or 4923T56G08, that have any fan blade S/Ns listed in Appendix A of GEAE SB No. CF34-AL S/B 72-0245, Revision 01, dated July 30, 2008.

(h) For CF34-3B1 engines that meet all of the following criteria, perform the actions specified in paragraph (i) of this AD:

(1) Installed fan blades, P/Ns 6018T30P14 or 4923T56G08; and

(2) With any fan blade S/Ns listed in Appendix A of GEAE SB No. CF34-AL S/B 72-0245, Revision 01, dated July 30, 2008.

(i) Do the following for the engines meeting the criteria in paragraph (f), (g), or (h) of this AD, as applicable:

(1) Remove listed fan blades from service within 4,000 cycles-in-service (CIS) after the effective date of this AD or by December 31, 2010, whichever occurs first.

Initial Visual Inspection of the Fan Blade Abradable Rub Strip for Wear

(2) For fan blades with 1,200 or more CSN on the effective date of this AD, perform an initial visual inspection of the fan blade abradable rub strip for wear within 20 CIS after the effective date of this AD. Use paragraphs 3.A.(1) through 3.A.(2) of the Accomplishment Instructions of GEAE SB No. CF34-AL S/B 72-0250, Revision 01, dated November 26, 2008, to perform the inspection.

(3) For fan blades with fewer than 1,200 CSN on the effective date of this AD, perform an initial visual inspection of the fan blade abradable rub strip for wear within 1,220 CSN. Use paragraphs 3.A.(1) through 3.A.(2) of the Accomplishment Instructions of GEAE SB No. CF34-AL S/B 72-0250, Revision 01, dated November 26, 2008, to perform the inspection.

(4) If you find a continuous 360 degree rub indication, before further flight, visually inspect the fan blades using paragraphs 3.A.(2)(a) through 3.A.(2)(b) of the Accomplishment Instructions of GEAE SB No. CF34-AL S/B 72-0250, Revision 01, dated November 26, 2008.

(5) If you find a crack in the retaining pin holes of the fan blade, remove the blade from service.

Repetitive Visual Inspection of the Fan Blade Abradable Rub Strip for Wear

(6) Within 75 cycles-since-last inspection (CSLI) or 100 hours-since-last-inspection (HSLI), whichever occurs later, perform a visual inspection of the fan blade abradable rub strip for wear. Use paragraphs 3.A.(1) through 3.A.(2) of the Accomplishment Instructions of GEAE SB No. CF34-AL S/B 72-0250, Revision 01, dated November 26, 2008, to perform the inspection.

(i) If you find a continuous 360 degree rub indication, before further flight, visually inspect the fan blades using paragraphs 3.A.(2)(a) through 3.A.(2)(b) of the Accomplishment Instructions of GEAE SB No. CF34-AL S/B 72-0250, Revision 01, dated November 26, 2008.

(ii) If you find a crack in the retaining pin holes of the fan blade, remove the blade from service.

Inspection of the Aft Actuator Head Hose Fitting on CF34-3A1 and CF34-3B1 Engines

(7) Within 750 hours time-in-service (TIS) after the effective date of this AD, visually inspect and, if necessary, reposition the aft actuator head hose fitting. Use paragraph 3.A of the Accomplishment Instructions of GEAE SB No. CF34-AL S/B 73-0046, Revision 02, dated August 27, 2008, to perform the inspection.

CF34-1A, CF34-3A, CF34-3A2, CF34-3B, and CF34-3A1 Engines

(j) For CF34-3A1 engines that meet all of the following criteria, perform the actions specified in paragraph (l) of this AD:

(1) Fan drive shaft, P/N 6036T78P02, installed; and

(2) Airworthiness limitation section fan drive shaft life limit of 15,000 CSN that are not in compliance with GEAE SB No. CF34-AL S/B 72-0147, dated May 21, 2003, Revision 01, dated October 17, 2003, Revision 02, dated August 5, 2004, or Revision 03, dated August 28, 2003; and

(3) With fan blades, P/Ns 6018T30P14 or 4923T56G08, that have any fan blade S/Ns listed in Appendix A of GEAE SB No. CF34-BJ S/B 72-0229, Revision 01, dated July 30, 2008.

(k) For CF34-1A, CF34-3A, CF34-3A2, and CF34-3B engines that meet all of the following criteria, perform the actions specified in paragraph (l) of this AD:

(1) Installed fan blades, P/N 6018T30P14 or P/N 4923T56G08; and

(2) Installed fan blade S/Ns listed in Appendix A of GEAE SB No. CF34-BJ S/B 72-0229, Revision 01, dated July 30, 2008:

(l) Do the following for the engines meeting the criteria in paragraph (j) or (k) of this AD as applicable:

(1) Remove listed fan blades, P/N 6018T30P14, from service within 2,400 CSN.

(2) Remove listed fan blades, P/N 4923T56G08, from service within 1,200 CIS since the bushing repair of the fan blade hole.

Initial Eddy Current Inspection of the Fan Blades

(3) For fan blades, P/N 6018T30P14, with more than 850 CSN, perform an initial eddy current inspection (ECI) of the fan blades for cracks within 350 CIS after the effective date of this AD. Use paragraphs 3.A. or 3.B. of the Accomplishment Instructions of GEAE SB No. CF34-BJ S/B 72-0229, Revision 01, dated July 30, 2008, to perform the inspection.

(4) For fan blades, P/N 6018T30P14, with 850 or fewer CSN on the effective date of this AD, perform an initial ECI of the fan blades for cracks within 1,200 CSN. Use paragraphs 3.A. or 3.B. of the Accomplishment Instructions of GEAE SB No. CF34-BJ S/B 72-0229, Revision 01, dated July 30, 2008, to perform the inspection.

(5) If you find a crack in the retaining pin holes of the fan blade, remove the blade from service.

Repetitive ECI of the Fan Blades

(6) For fan blades, P/N 6018T30P14, within 600 CSLI, perform an ECI of the fan blades for cracks. Use paragraphs 3.A. or 3.B. of the Accomplishment Instructions of GEAE SB No. CF34-BJ S/B 72-0229, Revision 01, dated July 30, 2008, to perform the inspection.

(7) If you find a crack in the retaining pin holes of the fan blade, remove the blade from service.

Initial Visual Inspection of the Fan Blade Abradable Rub Strip for Wear

(8) For engines with fan blades, P/N 6018T30P14, installed that have any fan blade S/Ns listed in Appendix A of GEAE SB No. CF34-BJ S/B 72-0229, Revision 01, dated July 30, 2008, with 1,200 or more CSN on the effective date of this AD, and that haven't had an ECI of the fan blades for cracks, do the following:

(i) Perform an initial inspection of the fan blade abradable rub strip for wear within 20 CIS after the effective date of this AD. Use paragraph 3.A.(1) of the Accomplishment Instructions of GEAE SB No. CF34-BJ S/B 72-0231, Revision 02, dated November 26, 2008, to perform the inspection.

(ii) If you find a continuous 360 degree rub indication, before further flight, perform a visual inspection of the fan blades for cracks. Use paragraphs 3.A(2)(a) or 3.A(2)(b) of the Accomplishment Instructions of GEAE SB No. CF34-BJ S/B 72-0231, Revision 02, dated November 26, 2008, to perform the inspection.

(iii) If you find a crack in the retaining pin holes of the fan blade, remove the blade from service.

Repetitive Inspection of the Fan Blade Abradable Rub Strip for Wear

(9) For engines with fan blades, P/N 6018T30P14, installed, if you have performed an ECI of the fan blade, you don't need to inspect the fan blade abradable rub strip for wear.

(10) For engines with fan blades, P/N 6018T30P14, installed, within 75 CSLI or 100 HSLI, whichever occurs later, do the following:

(i) Perform a visual inspection of the fan blade abradable rub strip for wear. Use paragraph 3.A.(1) of the Accomplishment Instructions of GEAE SB No. CF34-BJ S/B 72-0231, Revision 02, dated November 26, 2008, to perform the inspection.

(ii) If you find a continuous 360 degree rub indication, before further flight, visually inspect the fan blades using paragraphs 3.A.(2)(a) through 3.A.(2)(b) of the Accomplishment Instructions of GEAE SB No. CF34-BJ S/B 72-0231, Revision 02, dated November 26, 2008.

(iii) If you find a crack in the retaining pin holes of the fan blade, remove the blade from service.

Inspection of the Aft Actuator Head Hose Fitting on CF34-3A1 and CF34-3B Engines

(11) For CF34-3A1 engines, within 300 hours TIS after the effective date of this AD, visually inspect and, if necessary, reposition the aft actuator head hose fitting. Use paragraph 3.A of the Accomplishment Instructions of GEAE SB No. CF34-BJ S/B 73-0062, Revision 02, dated August 27, 2008, to perform the inspection.

(12) For CF34-3B engines, within 400 hours TIS after the effective date of this AD, visually inspect and, if necessary, reposition the aft actuator head hose fitting. Use paragraph 3.A of the Accomplishment Instructions of GEAE SB No. CF34-BJ S/B 73-0062, Revision 02, dated August 27, 2008, to perform the inspection.

Credit for Previous Actions

(m) Inspections previously performed using the following GEAE SBs meet the requirements specified in the indicated paragraphs:

(1) CF34-AL S/B 72-0250, dated August 15, 2008, meet the requirements specified in paragraphs (i)(2) through (i)(4) of this AD.

(2) CF34-AL S/B 73-0046, Revision 01, dated July 1, 2008, or earlier issue, meet the requirements specified in paragraph (i)(7) of this AD.

(3) CF34-BJ S/B 72-0229, dated April 10, 2008, meet the requirements specified in paragraphs (l)(3) and (l)(4) of this AD.

(4) CF34-BJ S/B 72-0231, Revision 01, dated October 1, 2008, or earlier issue, meet the requirements specified in paragraphs (l)(10)(i) and (l)(10)(ii) of this AD.

(5) CF34-BJ S/B 73-0062, Revision 01, dated July 1, 2008, or earlier issue, meet the requirements specified in paragraphs (l)(11) and (l)(12) of this AD.

Installation Prohibitions

(n) After the effective date of this AD:

(1) Do not install any fan blade into any CF34-3A1 engine with fan drive shaft, P/N 6036T78P02, with an airworthiness limitation section fan drive shaft life limit of 22,000 CSN if that fan blade:

(i) Was installed in a CF34-3A1 engine with fan drive shaft, P/N 6036T78P02, with an airworthiness limitation section fan drive shaft life limit of 15,000 CSN; and

(ii) Is listed in Appendix A of GEAE SB No. CF34-BJ S/B 72-0229, Revision 01, dated July 30, 2008; or

(iii) Is listed in Appendix A of GEAE SB No. CF34-BJ S/B 72-0230, Revision 01, dated July 30, 2008.

(2) Do not install any fan blade into any CF34-3A1 engine with fan drive shaft, P/N 6036T78P02, with an airworthiness limitation section fan drive shaft life limit of 15,000 CSN if that fan blade:

(i) Was installed in any CF34-3A1 engine with fan drive shaft, P/N 6036T78P02, with an airworthiness limitation section fan drive shaft life limit of 22,000 CSN; and

(ii) Is listed in Appendix A of GEAE SB No. CF34-AL S/B 72-0245, Revision 01, dated July 3, 2008.

Alternative Methods of Compliance

(o) The Manager, Engine Certification Office, has the authority to approve alternative methods of compliance for this AD if requested using the procedures found in 14 CFR 39.19.

Related Information

(p) Contact John Frost, Aerospace Engineer, Engine Certification Office, FAA, Engine & Propeller Directorate, 12 New England Executive Park, Burlington, MA 01803; e-mail: john.frost@faa.gov; telephone (781) 238-7756; fax (781) 238-7199, for more information about this AD.

Material Incorporated by Reference

(q) You must use the GE Aircraft Engines service information specified in the following Table 1 to do the actions required by this AD.

Table 1—Material Incorporated by Reference
Service Bulletin No. | Page | Revision | Date
CF34-AL S/B 73-0046
Total Pages: 8 | All | 02 | August 27, 2008.
CF34-BJ S/B 73-0062
Total Pages: 8 | All | 02 | August 27, 2008.
CF34-BJ S/B 72-0229
Total Pages: 158 | All | 01 | July 30, 2008.
CF34-BJ S/B 72-0230
Total Pages: 153 | All | 01 | July 30, 2008.
CF34-BJ S/B 72-0231
Total Pages: 8 | All | 02 | November 26, 2008.
CF34-AL S/B 72-0245
Total Pages: 153 | All | 01 | July 3, 2008.
CF34-AL S/B 72-0250
Total Pages: 9 | All | 01 | November 26, 2008.

(1) The Director of the Federal Register previously approved the incorporation by reference of this service information under 5 U.S.C. 552(a) and 1 CFR part 51, as of January 4, 2010.

(2) For service information identified in this AD, contact General Electric Company, GE-Aviation, Room 285, 1 Neumann Way, Cincinnati, OH 45215, telephone (513) 552-3272; fax (513) 552-3329; e-mail: geae.aoc@ge.com.

(3) You may review copies at the FAA, New England Region, 12 New England Executive Park, Burlington, MA; or at the National Archives and Records Administration (NARA). For information on the availability of this material at NARA, call (202) 741-6030, or go to: http://www.archives.gov/federal-register/cfr/ibr-locations.html.

Issued in Burlington, Massachusetts, on December 29, 2009.
Francis A. Favara,
Manager, Engine and Propeller Directorate, Aircraft Certification Service.

[FR Doc. E9-31274 Filed 1-7-10; 8:45 am]

BILLING CODE 4910-13-P